ELECTION ASSISTANCE COMMISSION

Publication of State Plan Pursuant to the Help America Vote Act

AGENCY: U.S. Election Assistance Commission (EAC).

ACTION: Notice.

SUMMARY: Pursuant to sections 254(a)(11)(A) and 255(b) of the Help America Vote Act (HAVA), Public Law 107-252, the U.S. Election Assistance Commission (EAC) hereby causes to be published in the Federal Register changes to the HAVA State plans previously submitted by Florida and Ohio.

DATES: This notice is effective upon publication in the Federal Register.

FOR FURTHER INFORMATION CONTACT: Bryan Whitener, Telephone 202-566-3100 or 1-866-747-1471 (toll-free).

Submit Comments: Any comments regarding the plans published herewith should be made in writing to the chief election official of the individual State at the address listed below.

SUPPLEMENTARY INFORMATION: On March 24, 2004, the U.S. Election Assistance Commission published in the Federal Register the original HAVA State plans filed by the fifty States, the District of Columbia and the Territories of American Samoa, Guam, Puerto Rico, and the U.S. Virgin Islands. 69 FR 14002. HAVA anticipated that States, Territories and the District of Columbia would change or update their plans from time to time pursuant to HAVA section 254(a)(11) through (13). HAVA sections 254(a)(11)(A) and 255 require EAC to publish such updates. This is Florida's third revision to its State plan and Ohio's second revision to its State plan.

The revised State plans from Florida and Ohio address changes in the respective budgets of the previously submitted State plans and account for the use of Fiscal Year 2008 requirements payments. In accordance with HAVA section 254(a)(12), all the State plans submitted for publication provide information on how the respective State succeeded in carrying out its previous State plan. The States all confirm that these changes to their respective State plans were developed and submitted to public comment in accordance with HAVA sections 254(a)(11), 255, and 256.

Upon the expiration of thirty days from May 28, 2009, the State is eligible to implement the changes addressed in the plan that is published herein, in accordance with HAVA section 254(a)(11)(C).

EAC wishes to acknowledge the effort that went into revising this State plan and encourages further public comment, in writing, to the State election official listed below.

Chief State Election Official

The Honorable Kurt S. Browning, Secretary of State, R.A. Gray Building, 500 South Bronough Street, Tallahassee, Florida 32399-0250, Phone: (850) 245-6500, Fax: (850) 245-6125.

The Honorable Jennifer Brunner, Secretary of State, 180 East Broad Street, 15th Floor Columbus, Ohio 43215-3726, Phone: (614) 466-2655, Fax: (614) 644-0649.

Thank you for your interest in improving the voting process in America.

Dated: May 20, 2009.
Thomas R. Wilkey,
Executive Director, U.S. Election Assistance Commission.

BILLING CODE 6820-KF-P

[FR Doc. E9-12157 Filed 5-27-09; 8:45 am]

BILLING CODE 6820-KF-P